DEPARTMENT OF LABOR

Office of the Secretary

Submission for OMB Review; Comment Request

March 19, 2001.

The Department of Labor (DOL) has submitted the following public information collection requests (ICRs) to the Office of Management and Budget (OMB) for review and approval in accordance with the Paperwork Reduction Act of 1995 (Pub. L. 104-13, 44 U.S.C. chapter 35). A copy of this ICR, with applicable supporting documentation, may be obtained by calling the Department of Labor. To obtain documentation contact Darrin King at (202) 693-4129 or E-Mail King-Darrin@dol.gov.

Comments should be sent to Office of Information and Regulatory Affairs, Attn: OMB Desk Officer for MSHA, Office of Management and Budget, Room 10235, Washington, DC 20503 ((202) 395-7316) within 30 days from the date of this publication in the Federal Register.

The OMB is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

* Minimize the burden of the collection of information on those who are to respond, including through the use of appropriate automated, electronic, mechanical, or other technological collection techniques or other forms of information technology, e.g., permitting electronic submission of responses.

Type of Review: Extension of a currently approved collection.

Agency: Mine Safety and Health Administration (MSHA).

Title: Application for a Permit to Fire More than 20 Boreholes for the Use of Nonpermissible Blasting Units, Explosives, and Shot-Firing Units.

OMB Number: 1219-0025.

Affected public: Business or other for-profit.

Frequency: On occasion.

Number of Respondents: 55.

Number of Annual Responses: 161.

Estimated Time Per Response: Varies from approximately 20 minutes to post a misfire notice to approximately 1 hour to apply for a permit.

Total Burden Hours: 90.

Total Annualized Capital/Startup Costs: $0.

Total Annual Costs (operating/maintaining systems or purchasing services): $650.

Description: 30 CFR 75.1321 and 77.1909-1 allows coal mine operators to apply for and be grated a permit to use nonpermissible explosives and nonpermissible shot-firing units. When a misfire cannot be disposed of, 30 CFR 75.1327 requires that notices of misfires be posted by a qualified person. The continued approval for these information collection requirements is necessary to ensure the safety of miners when nonpermissible blasting items are used by mine operators.

Ira Mills,
Departmental Clearance Officer.

[FR Doc. 01-8341 Filed 4-4-01; 8:45 am]

BILLING CODE 4510-43-M